DEPARTMENT OF ENERGY

Federal Energy Regulatory Commission

[Docket No. PF05-11-000]

Florida Gas Transmission Company; Notice of Intent To Prepare an Environmental Impact Statement for the Proposed Phase VII Expansion Project and Request for Comments on Environmental Issues

June 22, 2005.

The staff of the Federal Energy Regulatory Commission (FERC or Commission) will prepare an environmental impact statement (EIS) that will discuss the environmental impacts of Florida Gas Transmission Company's (FGT) proposed Phase VII Expansion Project, which would involve construction in portions of Florida as discussed below. This project is directly connected to Southern Natural Gas Company's proposed Cypress Pipeline Project. Therefore, the required National Environmental Policy Act (NEPA) review of the Phase VII Expansion Project will be part of the EIS we are currently preparing on the Cypress Pipeline Project under Docket No. PF05-7-000. The Cypress Pipeline Project involves the construction and operation of natural gas pipeline and compressor facilities in various counties in Georgia and Florida.

This notice announces the opening of the scoping process the Commission will use to gather input from the public and interested agencies on the Phase VII Expansion Project. Your input will help determine which issues need to be evaluated in the EIS. Please note that the scoping period will close on July 25, 2005.

This notice is being sent to affected landowners; Federal, state, and local government agencies; elected officials; environmental and public interest groups; Native American tribes; other interested parties; and local libraries and newspapers. State and local government representatives are asked to notify their constituents about this proposed project and encourage them to comment on their areas of concern.

Comments regarding this project may be submitted in written form or verbally. Further details on how to submit written or electronic comments are provided in the public participation section of this notice.

The FERC is the lead Federal agency for the preparation of the EIS. The document will satisfy the requirements of NEPA. The U.S. Army Corps of Engineers (COE) (Savannah and Jacksonville Districts) has agreed to participate as a cooperating agency in the preparation of the EIS for the Cypress Pipeline Project to satisfy its NEPA responsibilities under section 404 of the Clean Water Act and section 10 of the Rivers and Harbors Act. We anticipate the COE will also participate as a cooperating agency for the FGT Phase VII Expansion Project.

With this notice,¹ are asking other Federal, state, local, and tribal agencies with jurisdiction and/or special expertise with respect to environmental issues to cooperate with us in the preparation of the EIS. These agencies may choose to participate once they have evaluated FGT's proposal relative to their responsibilities. Agencies that would like to request cooperating status should follow the instructions for filing comments described later in this notice.

¹ “We,” “us,” and “our” refer to the environmental staff of the Office of Energy Projects.

If you are a landowner receiving this notice, you may be contacted by an FGT representative about the acquisition of an easement to construct, operate, and maintain the proposed facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need to Know?” is available for viewing on the FERC Internet Web site (http://www.ferc.gov). This fact sheet addresses a number of typically asked questions, including the use of eminent domain and how to participate in the FERC's proceedings.

Summary of the Proposed Project

FGT proposes to expand its existing pipeline facilities between Jacksonville and Tampa, Florida (see map in Appendix A). The expansion would consist primarily of looping ² FGT's existing pipeline system for approximately 32 miles and modifying compression at two existing compressor stations. In addition, miscellaneous piping, regulation, and metering facilities will be constructed along FGT's system. This work is being addressed as a “connected action” to the Cypress Pipeline Project because the FGT expansion is being constructed to transport the new volumes of natural gas that would be delivered into Florida by the Cypress project. The Phase VII Expansion Project would be constructed in two phases, with Phase 1 beginning in 2007 and Phase 2 in 2009, contingent on the project being certificated.

² A loop is a segment of pipeline that is usually installed adjacent to an existing pipeline and connected to it at both ends. The loop allows more gas to be moved through the system.

Specifically, FGT seeks authority to construct and operate the following facilities:

• Pipeline—2007.

—Loop J: about 5 miles of 36-inch mainline loop in Gilchrist County, Florida.

—Loop K: about 6 miles of 36-inch mainline loop in Levy County, Florida.

—Loop G: about 6 miles of 36-inch mainline loop in Hernando County, Florida.

• Pipeline—2009.

—Loop K: about 9 miles of 36-inch mainline loop in Levy County, Florida.

—Loop G: about 6 miles of 36-inch mainline loop in Hernando County, Florida.

• Compression—2007.

—Increase the horsepower (HP) of existing gas turbine compressor at Compressor Station 24 (Trenton) by 2,000 HP in Gilchrist County, Florida.

—Install a new 7,700 HP gas turbine compressor and increase by 400 HP an existing compressor at the existing Compressor Station 26 (Lecanto) in Citrus County, Florida.

• Compression—2009.

Re-wheel existing gas turbine compressor at Compressor Station 27 (Thonotosassa) in Hillsborough County, Florida. This will not change the HP of the unit, only the performance curve of the compressor.

• Miscellaneous Facilities—2007.

—Replace regulators and install new ultrasonic meters at the existing FPC-Hines meter and regulator station in Polk County, Florida.

—Modify existing Lawtey regulator facility on the Jacksonville Lateral in Clay County, Florida.

—Revise station piping at the existing Compressor Station 16 (Brooker) in Bradford County, Florida.

—Establish workspace area at existing Central Florida Gas (CFG) Suwannee tap in Suwannee County, Florida to set up tanker trucks to provide uninterrupted service to customer during mainline outage.

—Install new regulator facility on the Jacksonville Lateral adjacent to the Cypress/Company interconnect in Duval County, Florida.

—Install side valves and miscellaneous interconnecting piping for new Cypress/Company interconnect in Duval County, Florida.

Land Requirements for Construction

Construction of the proposed pipeline facilities would require about 300 acres of land which is primarily within existing maintained rights-of-way. The typical construction right-of-way for the pipeline facilities would be 75 feet wide and primarily within an existing powerline easement (Loop G), road and railroad rights-of-way (Loop K), and FGT's existing pipeline right-of-way (Loop J). Up to 25 feet of the temporary construction right-of-way would be required outside the existing FGT pipeline right-of-way on Loop J. Temporary extra workspace would also be required outside existing rights-of-way at certain feature crossings (e.g., roads, railroads, waterbodies) and in areas requiring topsoil segregation and special construction techniques.

The construction workspace at compressor stations would be within existing facility sites and the workspace for the miscellaneous facilities would be primarily within FGT's existing rights-of-way.

Following construction, no new permanent right-of-way would be required for the pipeline, compressor upgrades, or miscellaneous facilities. Temporary workspace that is used outside existing rights-of-way would be restored and allowed to revert to its current use.

The EIS Process

NEPA requires the Commission to take into account the environmental impacts that could result from an action whenever it considers the issuance of a Certificate of Public Convenience and Necessity. NEPA also requires the Commission to discover and address concerns the public may have about proposals. This process is referred to as “scoping.” The main goal of the scoping process is to focus the analysis in the EIS on the important environmental issues and reasonable alternatives.

Although no formal application has been filed, we have already initiated our NEPA review under the FERC's Pre-Filing Process. The purpose of the Pre-Filing Process is to encourage the early involvement of interested stakeholders and to identify and resolve issues before an application is filed with the FERC. We previously held interagency and public scoping meetings for the related Cypress Pipeline Project in March 2005.

As part of our Pre-Filing Process review for the Phase VII Expansion Project, representatives from the FERC participated in public open houses sponsored by FGT in the project area on June 13-14, 2005 to explain the environmental review process to interested stakeholders and take comments about the project. In addition, the FERC staff conducted an interagency scoping meeting in the project area on June 15, 2005 to solicit comments and concerns about the project from jurisdictional agencies. By this notice, we are formally announcing our preparation of the EIS and requesting additional agency and public comments to help us focus the analysis in the EIS on the potentially significant environmental issues related to the proposed action.

Our independent analysis of the issues will be included in a draft EIS. The draft EIS will be mailed to Federal, state, and local government agencies; elected officials; environmental and public interest groups; Native American tribes; affected landowners; other interested parties; local libraries and newspapers; and the FERC's official service list for this proceeding. A 45-day comment period will be allotted for review of the draft EIS. We will consider all timely comments on the draft EIS and revise the document, as necessary, before issuing a final EIS.

Currently Identified Environmental Issues

The EIS will discuss impacts that could occur as a result of the construction and operation of the proposed project under the general resource headings listed below. We have already identified several issues that we think deserve attention based on a preliminary review of the proposed facilities, the environmental information provided by FGT, and the interagency scoping meeting. This preliminary list of issues may be changed based on your comments and our additional analysis.

• Geology and Soils.

—Assessment of potential geologic hazards, including sinkholes.

—Potential impact on mineral resources and mining operations.

• Water Resources and Wetlands.

—Effect on groundwater resources.

—Potential effect on perennial streams, intermittent streams, and ponds crossed by or close to the route.

—Evaluation of temporary and permanent effects on wetlands.

• Fisheries, Wildlife, and Vegetation.

—Effect on fisheries, wildlife, and vegetation resources.

—Effect on vegetative nuisance species.

• Endangered and Threatened Species.

—Potential effect on federally and state-listed species, including the gopher tortoise, Florida scrub-jay, and southeastern kestrel.

• Cultural Resources.

—Effect on historic and prehistoric sites.

—Native American and tribal concerns.

• Land Use.

—Impact on residential areas.

—Effect on existing and future land use along the proposed right-of-way, including proposed developments and agricultural land.

—Effect on recreation and public interest areas.

—Visual effect of the aboveground facilities on surrounding areas.

• Air Quality and Noise.

—Effect on local air quality and noise environment from construction and operation of the proposed facilities.

• Reliability and Safety.

—Assessment of public safety factors associated with natural gas facilities.

• Alternatives.

—Assessment of alternative routes, facility sites, systems, and energy sources to reduce or avoid environmental impacts.

• Cumulative Impacts.

—Assessment of the effect of the proposed project when combined with other projects that have been or may be proposed in the same region and similar time frame.

Public Participation

You can make a difference by providing us with your specific comments or concerns about the proposal. Your comments should focus on the potential environmental effects, reasonable alternatives, and measures to avoid or lessen environmental impact. The more specific your comments, the more useful they will be. To ensure that your comments are timely and properly recorded, please mail your comments so that they will be received in Washington, DC on or before July 25, 2005 and carefully follow these instructions:

• Send an original and two copies of your letter to: Magalie R. Salas, Secretary, Federal Energy Regulatory Commission, 888 First St., NE., Room 1A, Washington, DC 20426;

• Label one copy of the comments for the attention of the Gas Branch 1, DG2E; and

• Reference Docket No. PF05-11-000 on the original and both copies.

We will include all comments that we receive within a reasonable time frame in our environmental analysis of the project. To expedite our receipt and consideration of your comments, the Commission strongly encourages electronic submission of any comments on this project. See title 18 Code of Federal Regulations 385.2001(a)(1)(iii) and the instructions on the Commission's Web site at http://www.ferc.gov under the “e-Filing” link and the link to the User's Guide. Before you can submit comments, you will need to create a free account which can be created on-line.

Once FGT formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time. You must wait until a formal application is filed with the Commission.

Affected landowners and parties with environmental concerns may be granted intervenor status upon showing good cause by stating that they have a clear and direct interest in this proceeding that would not be adequately represented by any other parties. You do not need intervenor status to have your environmental comments considered.

Environmental Mailing List

If you wish to remain on our environmental mailing list, please return the Information Request Form included in Appendix 2. If you do not return this form, you will be removed from our mailing list.

Availability of Additional Information

Additional information about the project is available from the Commission's Office of External Affairs at 1-866-208 FERC or on the FERC Internet Web site (http://www.ferc.gov) using the “eLibrary” link. Click on the eLibrary link, click on “General Search,” and enter the docket number excluding the last three digits in the Docket Number field (i.e., PF05-11). Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E5-3497 Filed 7-1-05; 8:45 am]

BILLING CODE 6717-01-P